DEPARTMENT OF TRANSPORTATION

National Highway Traffic Safety Administration

[Docket No. NHTSA 2003-16066; Notice 1]

Subaru of America, Inc., Receipt of Application for Decision of Inconsequential Noncompliance

Subaru of America, Inc. (Subaru) has determined that approximately 2,531 model year 2004 Subaru Impreza STi vehicles do meet the labeling requirements mandated by Federal Motor Vehicle Safety Standard (FMVSS) No. 108, S7.7(e) on “headlamp ballast.”

Pursuant to 49 U.S.C. 30118(d) and 30120(h), Subaru has petitioned for a determination that this noncompliance is inconsequential to motor vehicle safety and has filed an appropriate report pursuant to 49 CFR part 573, “Defect and Noncompliance Reports.” A copy of the petition may be found in this docket.

This notice of receipt of an application is published under 49 U.S.C. 30118 and 30120 and does not represent any agency decision or other exercise of judgment concerning the merits of the application.

The affected vehicles were produced during the period of February 4, 2003 through July 9, 2003 at Ichikoh Industries, Ltd (Ichikoh), the HID headlamp assembly supplier. The affected headlamps are equipped with a ballast that is currently registered in docket No. NHTSA-98-3397. However, ballast units without all of the label information required in FMVSS No. 108, S7. 7 (e) were used by Ichikoh to assemble a complete headlamp assembly.

Subaru believes that this noncompliance on ballast marking is inconsequential for motor vehicle safety for the following reasons: (1) The ballast (part no.: NZMIC111LAC1000) and ignition module (part no.: NZMIC211LAC1000) used in these headlamp assemblies are the same ones as registered by Matsushita Electric Works, Ltd. according to part 564 except they are missing the information label. For this reason, Subaru believes that this noncompliance will not affect the luminous intensity distribution, mechanical performance or any other headlamp performance characteristic required by FMVSS No. 108. (2) The ballast is designed to have high durability during the vehicle's lifetime and Subaru believes that the ballast, as well as the headlamp assembly, will not need to be replaced from a lack of durability. (3) A properly affixed ballast information label, which is on the bottom surface of the ballast, is not visible unless the headlamp assembly is removed from the vehicle.

Interested persons are invited to submit written views, arguments, and data on the application described above. Comments must refer to the docket and notice number cited at the beginning of this notice and be submitted by any of the following methods: Mail: Docket Management Facility; U.S. Department of Transportation, Nassif Building, Room PL-401, 400 Seventh Street, SW., Washington, DC, 20590-001. Hand Delivery: Room PL-401 on the plaza level of the Nassif Building, 400 Seventh Street, SW., Washington, DC. Fax: 1-202-493-2251, or submit to Federal eRulemaking Portal: Go to http://www.regulations.gov. Follow the online instructions for submitting comments.

It is requested, but not required, that two copies of the comments be provided. The Docket Section is open on weekdays from 10 am to 5 pm except Federal Holidays. Comments may be submitted electronically by logging onto the Docket Management System Web site at http://dms.dot.gov. Click on “Help” to obtain instructions for filing the document electronically.

The application and supporting materials and all comments received before the close of business on the closing date indicated below will be considered. All comments received after the closing date will also be filed and will be considered to the extent possible. When the application is granted or denied, the notice will be published in the Federal Register pursuant to the authority indicated below.

Comment closing date: October 30, 2003.

Authority: (49 U.S.C. 301118, 301120; delegations of authority at 49 CFR 1.50 and 501.8).

Issued on: September 25, 2003.
Stephen R. Kratzke,
Associate Administrator for Rulemaking.

[FR Doc. 03-24743 Filed 9-29-03; 8:45 am]

BILLING CODE 4910-59-P